DEPARTMENT OF AGRICULTURE

Forest Service

Buckhorn Mountain Project, a Supplement to the Final Environmental Impact Statement for Crown Jewel Mine, Okanogan and Wenatchee National Forests, Okanogan County, WA

AGENCY: Forest Service, USDA.

ACTION: Notice of intent to prepare a Supplemental Environmental Impact Statement.

SUMMARY: Notice is hereby given that the USDA, Forest Service and the Washington State Department of Ecology will jointly prepare a Supplemental Environmental Impact Statement (SEIS) for a proposal by Crown Resources Corporation (Crown) to develop a mine and mill for precious mineral extraction in the vicinity of Chesaw, Washington. The Buckhorn Mountain Project will supplement the Final environmental impact statement (FEIS) for Crown Jewel Mine, which was released February 7, 1997. The Buckhorn Mountain Project is located approximately 21 miles east of Oroville, Washington and 3½ miles south of the Canadian border. Crown proposes to develop an underground gold mine on Buckhorn Mountain approximately 3.5 air miles east of Chesaw, Washington in sections 24 and 25, T. 40 N., R. 30 E., W.M. with a satellite milling facility 2 miles south of Chesaw in Section 4, T. 39 N., R. 30 E., W.M. The purpose of the SEIS will be to evaluate an underground mining and milling configuration that is different from the underground mining operation proposed in the Crown Jewel Mine FEIS. The proposed project will comply with the direction in the December 1989 Okanogan National Forest Land and Resource Management Plan (Forest Plan), as amended. The Forest Plan provides the overall guidance for management of NFS lands included in this proposal. The agencies invite written comments on the scope of this project. In addition, the agencies give notice of this analysis so that interested and affected individuals are aware of how they may participate and contribute to the final decision.

DATES: Comments concerning the scope of this analysis must be received by October 20, 2003. Public information and scoping meetings are proposed to be held in September to provide information about the project to the public and to allow people to comment on the project. The Draft SEIS is expected to be filed in October 2004. The Final SEIS is expected to be filed in April 2005.

ADDRESSES: Submit written comments and suggestions concerning the scope of the analysis to Phil Christy, Project Coordinator, Tonasket Ranger District, 1 West Winesap, Tonasket, Washington 98855 [Phone: (509) 486-5137].

FOR FURTHER INFORMATION: Direct questions about the proposed action and SEIS to Phil Christy, Project Coordinator, Tonasket Ranger District, 1 West Winesap, Tonasket, Washington 98855 [Phone: (509) 486-5137].

SUPPLEMENTARY INFORMATION:

Purpose and Need for Action

The purpose and need for this action is to respond to the plan of operations and other permit applications submitted by Crown Resources Corporation to construct and operate a mine of the specific body of ore on Buckhorn Mountain, along with processing facilities, while protecting surface resources.

Proposed Action

The Project would consist of an underground mine on NFS land and private land with an off-site mill and tailings facility on private land. The mineral deposit itself lies under both private and NFS lands. The ore would be transported from the mine to the mill site by road in highway-legal trucks. The majority of underground mine openings would be backfilled upon completion of mining. The backfill would consist of development rock from the mine and gravel excavated during development of the mill/tailings facility. A cement binder would be added to some of the backfill. Haul trucks would transport the backfill gravel to the mine site. Water used in the milling facility would be obtained using existing surface and ground water rights controlled by Crown. Water would be conveyed in a buried pipe from the location of the water rights to the mill for process use. The mine site would consist of approximately 27 acres of fenced surface facilities located above the ore deposit. Approximately 23 acres of NFS lands would be disturbed. The mill and tailings disposal facility would occupy approximately 90 acres of private land. The transportation route from the mine to the mill is along a road alignment approximately 7 miles in length.

Approximately 8 months of underground development work is required prior to initial ore production. The 88,000 tons of development rock generated during this initial period would be temporarily staged on the surface until returned underground as backfill. Construction of the mill, administrative office, and the tailings disposal facility would occur concurrently. Full-scale production of fifteen hundred tons of ore per day is likely to begin twelve months after project initiation. Commercial production is projected to continue for approximately 90 months (7.4 years). Active physical decommissioning of site facilities would continue for approximately 2 additional years upon mining cessation, followed by a minimum of three additional years of reclamation monitoring and final closure. The estimated number of employees is 90 at the peak of construction activities and 150 during operations, including full time contract trucking employees. The SEIS will include analysis and development of mitigation measures and monitoring requirements for reclamation, environmental education of employees, spill prevention/emergency response planning, water quality monitoring, erosion and sediment control, air quality, wildlife impacts and protection, and public safety. Mill tailings, composed of dilute cyanide process solution and ground ore, is proposed to be detoxified using a closed circuit destruction process and piped to an engineered disposal facility on private land.

Possible Alternatives

The Crown Jewel Mine FEIS analyzed a reasonable range of alternatives. The new underground mine proposal differs from the underground mine presented in the Crown Jewel Mine Final EIS, although some components remain the same. Because a reasonable range was established in the preceding FEIS, possible alternatives will be limited to alternative components to the underground mining/milling operation and will be based on the response to scoping.

Lead and Cooperating Agencies

The Forest Service and the Washington State Department of Ecology will be joint lead agencies in accordance with 40 CFR 1501.5(b), and are responsible for preparation of the SEIS. The Washington State Department of Natural Resources will be a cooperating agency in accordance with 40 CFR 1501.6. Scoping will determine if additional cooperating agencies are needed.

Nature of the Decision To Be Made

The Forest Supervisor for the Okanogan and Wenatchee National Forests will decide whether or not to permit a mining operation on Buckhorn Mountain, and if it is permitted, what mitigation measures and monitoring will be required. The Forest Supervisor will only be making a decision regarding operations on NFS lands.

Scoping Process

Public participation will be especially important at several points during the analysis. The participating agencies will be seeking information, comments, and assistance from Federal, State, local agencies, Native American Tribe and other individuals and organizations who may be interested in or affected by the proposed project. This input will be used in preparation of the Draft SEIS. The scoping process includes:

• Identifying potential issues not addressed in the Crown Jewel Mine EIS.

• Identifying major issues to be analyzed in depth.

• Identifying issues, which have been addressed by a relevant previous environmental analysis include the Crown Jewel Mine EIS.

• Exploring additional potential components of an underground mine/mill alternative, which will be derived from issues recognized during scoping activities.

• Identifying potential environmental effects of this project.

• Determining potential cooperating agencies and task assignments.

• Notifying interested members of the public of opportunities to participate through meetings, personal contacts, or written comment. Keeping the public informed through the media and/or written material (e.g. newsletters, correspondence, etc.)

Preliminary Issues

A number of issues were identified in the Crown Jewel Mine EIS. The major issues identified concerned water quality and quantity, wildlife habitat impacts, increased traffic, the use of toxic materials for processing the ore, extraction impacts, potential spills, the effects on the visual quality of the area, and social/economic impacts. Because of the very limited impacts to NFS lands, the current proposal minimizes the issues of wildlife habitat, extraction impacts and visual quality, and eliminates the issue of the use of toxic materials on NFS lands. Because of the change in the transportation route, the issue of potential spills on NFS lands is also minimized.

Permits or Licenses Required

Numerous permits and licenses are required for this project. A list of these can be requested at the contact address above.

Comment Requested

This notice of intent initiates the scoping process, which guides development of the SEIS. The Forest Service is seeking public and agency comment on the proposed action to determine if any additional issues arise which were not already addressed in the Crown Jewel Mine EIS. Additional issues may lead either to other alternatives, or additional mitigation measures and monitoring requirements.

Early Notice of Importance of Public Participation in Subsequent Environmental Review

A Draft SEIS will be prepared for comment. Copies will be distributed to interested and affected agencies, organizations, and members of the public for their review and comment. The comment period on the Draft SEIS will be 45 days from the date the Environmental Protection Agency publishes the notice of availability in the Federal Register.

The Forest Service believes, at this early stage, it is important to give reviewers notice of several court rulings related to public participation in the environmental review process. First, reviewers of a Draft SEIS must structure their participation in the environmental review of the proposal so that it is meaningful and alerts an agency to the reviewer's position and contentions. Vermont Yankee Nuclear Power Corp v. NRDC, 435 U.S. 519, 553 (1978). Also, environmental objections that could be raised at the Draft SEIS stage but that are not raised until after the completion of the Final SEIS may be waived or dismissed by the courts. City of Angoon v. Hodel, 803 F.2d. 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the participating agencies at a time when it can meaningfully consider them and respond to them in the Final SEIS.

To assist the participating agencies in identifying and considering issues and concerns on the proposed action, comments on the Draft SEIS should be as specific as possible. It is also helpful if comments refer to specific pages or chapters of the draft statement. Comments may also address the adequacy of the Draft SEIS or the merits of the alternatives formulated and discussed in the statement. Reviewers may wish to refer to the Council on Environmental Quality Regulations for implementing the procedural provisions of the National Environmental Policy Act at 40 CFR 1503.3 in addressing these points.

In the Final SEIS, the participating agencies are required to respond to comments and responses received during the comment period that pertain to the environmental consequences discussed in the Draft SEIS and applicable laws, regulations, and policies considered in making a decision regarding the proposal.

Comments received including the names and addresses of those who comment, will be considered part of the public record on this proposal and will be available for public inspection.

The Forest Supervisor for the Okanogan and Wenatchee National Forest will be the responsible official for this SEIS and its Record of Decision. As the responsible official, the Forest Supervisor will document the decision and reasons for the decision in the Record of Decision. That decision will be subject to Forest Service Appeal Regulations (36 CFR part 215).

Dated: August 28, 2003.
Richard Emmick,
Engineering, Lands and Minerals Group Leader.

[FR Doc. 03-22614 Filed 9-4-03; 8:45 am]

BILLING CODE 3410-11-M